DEPARTMENT OF TRANSPORTATION

Federal Aviation Administration

14 CFR Part 39

[Docket No. FAA-2020-1178; Project Identifier MCAI-2020-01325-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2020-09-14, which applies to certain Airbus SAS Model A350-941 and -1041 airplanes. AD 2020-09-14 requires revising the existing airplane flight manual (AFM) to define a liquid-prohibited zone on the flight deck and provide procedures following liquid spillage on the center pedestal. AD 2020-09-14 also requires installing a removable integrated control panel (ICP) cover on the flight deck and further revising the AFM to include instructions for ICP cover use. Since the FAA issued AD 2020-09-14, a new, water-resistant ICP has been developed. This proposed AD would require installing a new, water-resistant ICP, which would allow removing the ICP protective cover and the AFM revisions, as specified in a European Union Aviation Safety Agency (EASA) AD, which will be incorporated by reference. The FAA is proposing this AD to address the unsafe condition on these products.

DATES: The FAA must receive comments on this proposed AD by April 8, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that will be incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-1178.

Examining the AD Docket

You may examine the AD docket on the internet at https://www.regulations.gov by searching for and locating Docket No. FAA-2020-1178; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Kathleen Arrigotti, Aerospace Engineer, Large Aircraft Section, International Validation Branch, FAA, 2200 South 216th St., Des Moines, WA 98198; telephone and fax 206-231-3218.

SUPPLEMENTARY INFORMATION:

Comments Invited

The FAA invites you to send any written relevant data, views, or arguments about this proposal. Send your comments to an address listed under ADDRESSES. Include “Docket No. FAA-2020-1178; Project Identifier MCAI-2020-01325-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kathleen Arrigotti, Aerospace Engineer, Large Aircraft Section, International Validation Branch, FAA, 2200 South 216th St., Des Moines, WA 98198; telephone and fax 206-231-3218. Any commentary that the FAA receives which is not specifically designated as CBI will be placed in the public docket for this rulemaking.

Discussion

The FAA issued AD 2020-09-14, Amendment 39-19910 (85 FR 30601, May 20, 2020) (AD 2020-09-14), which applies to certain Airbus SAS Model A350-941 and -1041 airplanes. AD 2020-09-14 requires revising the existing AFM to define a liquid-prohibited zone on the flight deck and provide procedures following liquid spillage on the center pedestal. AD 2020-09-14 also requires installing a removable ICP cover on the flight deck and further revising the AFM to include instructions for ICP cover use. AD 2020-09-14 superseded AD 2020-03-12, Amendment 39-19837 (85 FR 7863, February 12, 2020), which applied to all Airbus SAS Model A350-941 and -1041 airplanes. Both ADs required revising the existing AFM to define a liquid-prohibited zone on the flight deck and provide procedures following liquid spillage on the center pedestal.

The FAA issued AD 2020-09-14 to address the potential for dual-engine in-flight shutdown (IFSD), possibly resulting in a forced landing with consequent damage to the airplane and injury to occupants.

Actions Since AD 2020-09-14 Was Issued

The preamble to AD 2020-09-14 explains that the FAA considers the requirements “interim action” and was considering further rulemaking. The FAA has now determined that further rulemaking is indeed necessary, and this proposed AD follows from that determination. Since the FAA issued AD 2020-09-14, a new, water-resistant ICP has been developed by the manufacturer to address the identified unsafe condition.

The EASA, which is the Technical Agent for the Member States of the European Union, has issued EASA AD 2020-0203, dated September 23, 2020 (EASA AD 2020-0203) (also referred to as the Mandatory Continuing Airworthiness Information, or the MCAI), to correct an unsafe condition for certain Airbus SAS Model A350-941 and -1041 airplanes. EASA AD 2020-0203 superseded EASA AD 2020-0090 (which corresponds to FAA AD 2020-09-14).

This proposed AD was prompted by the development of a new, water-resistant ICP to prevent damage from inadvertent liquid spillage on the center pedestal. The FAA is proposing this AD to address the potential for dual-engine IFSD, possibly resulting in a forced landing with consequent damage to the airplane and injury to occupants. See the MCAI for additional background information.

Explanation of Retained Requirements

Although this proposed AD does not explicitly restate the requirements of AD 2020-09-14, this proposed AD would retain all requirements of AD 2020-09-14 and revise the applicability. Those requirements are referenced in EASA AD 2020-0203, which, in turn, is referenced in paragraph (g) of this proposed AD.

Related Service Information Under 1 CFR Part 51

EASA AD 2020-0203 describes procedures for revising the AFM to define a liquid-prohibited zone on the flight deck and provide procedures following liquid spillage on the center pedestal, installing an ICP cover on the flight deck, and further revising the AFM to include instructions for ICP cover use. EASA AD 2020-0203 also describes procedures for installing a new, water-resistant ICP; removing the ICP protective cover; and removing the AFM revisions. This material is reasonably available because the interested parties have access to it through their normal course of business or by the means identified in the ADDRESSES section.

FAA's Determination and Requirements of This Proposed AD

This product has been approved by the aviation authority of another country, and is approved for operation in the United States. Pursuant to the FAA's bilateral agreement with the State of Design Authority, the FAA has been notified of the unsafe condition described in the MCAI referenced above. The FAA is proposing this AD because the FAA evaluated all pertinent information and determined an unsafe condition exists and is likely to exist or develop on other products of the same type design.

Proposed AD Requirements

This proposed AD would require accomplishing the actions specified in EASA AD 2020-0203 described previously, as incorporated by reference, except for any differences identified as exceptions in the regulatory text of this AD. The FAA also proposes to revise the applicability to exclude only airplanes on which Mod 116038 was installed in production. Additionally, for airplanes modified per Mod 116010, which introduced the removable protective ICP cover, certain AFM requirements specified in EASA AD 2020-0203 would not be required by this proposed AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0203 will be incorporated by reference in the FAA final rule. This proposed AD would, therefore, require compliance with EASA AD 2020-0203 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0203 that is required for compliance with EASA AD 2020-0203 will be available on the internet at https://www.regulations.gov by searching for and locating Docket No. FAA-2020-1178 after the FAA final rule is published.

Costs of Compliance

The FAA estimates that this proposed AD affects 15 airplanes of U.S. registry. The FAA estimates the following costs to comply with this proposed AD:

Estimated Costs for Required Actions(*)
Action | Labor cost | Parts cost | Cost per product | Cost on U.S. operators
Retained AFM revision from AD 2020-09-14 | 1 work-hour × $85 per hour = $85 | $0 | $85 | $1,105.
Retained installation from AD 2020-09-14 | 2 work-hours × $85 per hour = $170 | (*) | $170 | $2,210.
New proposed actions | Up to 42 work-hours × $85 per hour = Up to $3,570 | (*) | Up to $3,570 | Up to $53,550.
* The FAA has received no definitive data regarding cost estimates for these parts.

The FAA has received no definitive data on which to base the cost estimates for the on-condition actions specified in this proposed AD.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-09-14, Amendment 39-19910 (85 FR 30601, May 20, 2020); and

b. Adding the following new AD:

Airbus SAS: Docket No. FAA-2020-1178; Project Identifier MCAI-2020-01325-T.

(a) Comments Due Date

The FAA must receive comments for this airworthiness directive (AD) action by April 8, 2021.

(b) Affected ADs

This AD replaces AD 2020-09-14, Amendment 39-19910 (85 FR 30601, May 20, 2020) (AD 2020-09-14).

(c) Applicability

This AD applies to Airbus SAS Model A350-941 and -1041 airplanes, certificated in any category, as identified in European Union Aviation Safety Agency (EASA) AD 2020-0203, dated September 23, 2020 (EASA AD 2020-0203).

(d) Subject

Air Transport Association (ATA) of America Code 31, Instruments.

(e) Reason

This AD was prompted by two reports of abnormal operation of the components of the ENG START panel or Electronic Centralized Aircraft Monitoring (ECAM) Control Panel (ECP) due to liquid spillage in the system, and the subsequent uncommanded engine in-flight shutdown (IFSD) of one engine in each case. This AD was also prompted by the development of a new, water-resistant integrated control panel (ICP) that will address this unsafe condition. The FAA is issuing this AD to address the potential for dual-engine IFSD, possibly resulting in a forced landing with consequent damage to the airplane and injury to occupants.

(f) Compliance

Comply with this AD within the compliance times specified, unless already done.

(g) Requirements

Except as specified in paragraph (h) of this AD: Comply with all required actions and compliance times specified in, and in accordance with, EASA AD 2020-0203.

(h) Exceptions to EASA AD 2020-0203

(1) Where EASA AD 2020-0203 refers to its effective date, this AD requires using the effective date of this AD.

(2) Where EASA AD 2020-0203 refers to the effective date of EASA AD 2020-0020E, this AD requires using February 14, 2020 (the effective date of AD 2020-03-12).

(3) Where EASA AD 2020-0203 refers to the effective date of EASA AD 2020-0090, this AD requires using June 4, 2020 (the effective date of AD 2020-09-14).

(4) Where paragraph (7) of EASA AD 2020-0203 specifies removing the AFM [airplane flight manual] changes “as required by paragraph (2) or (4) of [the MCAI], as applicable,” this AD requires removing the AFM changes required by paragraph (1), (2), (4), or (5), as applicable, from the AFM.

(5) For airplanes with Mod 116010: This AD does not require the actions specified in paragraph (1), (3), and (4) of EASA AD 2020-0203, as specified in paragraph (g) of this AD.

(6) “Note 1” of EASA AD 2020-0203 does not apply to this AD. However, after the actions required by EASA AD 2020-0203, paragraphs (3) to (5), as required by paragraph (g) of this AD, have been accomplished on an airplane, that airplane may be operated with a damaged or missing ICP removable cover, provided provisions that address the ICP removable cover are included in the operator's approved minimum equipment list (MEL). After the actions required by EASA AD 2020-0203, paragraph (6), as required by paragraph (g) of this AD, have been accomplished on an airplane, that airplane may be operated without an ICP removable cover, provided provisions that address the ICP removable cover are removed from the operator's approved MEL.

(7) The “Remarks” section of EASA AD 2020-0203 does not apply to this AD.

(i) Special Flight Permit

Special flight permits may be issued in accordance with 14 CFR 21.197 and 21.199 to operate the airplane to a location where the actions specified in this AD can be accomplished (if the operator elects to do so), provided a removable ICP cover is installed on the flight deck.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus's EASA Design Organization Approval (DOA). If approved by the DOA, the approval must include the DOA-authorized signature.

(3) Required for Compliance (RC): For any service information referenced in EASA AD 2020-0203 that contains RC procedures and tests: RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2020-0203, contact the EASA, Konrad-Adenauer-Ufer 3, 50668 Cologne, Germany; telephone +49 221 8999 000; email ADs@easa.europa.eu; internet www.easa.europa.eu. You may find this EASA AD on the EASA website at https://ad.easa.europa.eu. You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-1178.

(2) For more information about this AD, contact Kathleen Arrigotti, Aerospace Engineer, Large Aircraft Section, International Validation Branch, FAA, 2200 South 216th St., Des Moines, WA 98198; telephone and fax 206-231-3218.

Issued on January 19, 2021.
Lance T. Gant,
Director, Compliance & Airworthiness Division, Aircraft Certification Service.

[FR Doc. 2021-01609 Filed 2-19-21; 8:45 am]

BILLING CODE 4910-13-P